DEPARTMENT OF COMMERCE

International Trade Administration

[A-523-810]

Polyethylene Terephthalate Resin From the Sultanate of Oman: Final Results of Antidumping Duty Administrative Review; 2017-2018

AGENCY: Enforcement and Compliance, International Trade Administration, Department of Commerce.

SUMMARY: The Department of Commerce (Commerce) determines that OCTAL SAOC-FZC (OCTAL) did not make sales of polyethylene terephthalate resin (PET resin) from the Sultanate of Oman (Oman) at less than normal value during the period of review (POR), May 1, 2017 through April 30, 2018.

DATES: Applicable November 22, 2019.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On July 18, 2019, Commerce published the Preliminary Results of the 2017-2018 antidumping duty (AD) administrative review of PET resin from Oman.¹ On August 19, 2019, DAK Americas, LLC, Indorama Ventures USA, Inc., and Nan Ya Plastics Corporation, America (petitioners) requested that Commerce conduct a hearing in this proceeding.² On August 20, 2019, we received a case brief from the petitioners and on August 30, 2019, we received a rebuttal brief from OCTAL.³ On October 3, 2019, we held a public hearing.⁴

¹ See Polyethylene Terephthalate Resin from the Sultanate of Oman: Preliminary Results of Antidumping Duty Administrative Review; 2017-2018, 84 FR 34343 (July 18, 2019) (Preliminary Results), and accompanying Preliminary Decision Memorandum.

² See Petitioners' Letter, “Polyethylene Terephthalate Resin from the Sultanate of Oman—Petitioners' Request for Hearing,” dated August 19, 2019.

³ See Petitioners' Letter, “Polyethylene Terephthalate Resin from the Sultanate of Oman: Petitioners' Case Brief,” dated August 20, 2019'; see also OCTAL's Rebuttal Brief, “OCTAL's Rebuttal Brief: Polyethylene Terephthalate Resin (PET) from the Sultanate of Oman,” dated August 30, 2019.

⁴ See Memorandum, “2017-2018 Antidumping Duty Administrative Review of Polyethylene Terephthalate Resin from the Sultanate of Oman: Hearing Schedule,” dated September 25, 2019; see also Public Hearing Transcript dated October 10, 2019.

Scope of the Order

The merchandise covered by this order is PET resin having an intrinsic viscosity of at least 0.70, but not more than 0.88, deciliters per gram. The merchandise subject to this order is properly classified under subheadings 3907.60.00.30, 3907.61.0000, 3907.61.0010, 3907.61.0050, 3907.69.0000, 3907.69.0010, and 3907.69.0050 of the Harmonized Tariff Schedule of the United States (HTSUS).⁵ Although the HTSUS subheadings are provided for convenience and customs purposes, the written description of the merchandise covered by this order is dispositive. For a complete description of the scope of the order, see the Issues and Decision Memorandum (IDM).⁶

⁵ On January 27, 2017, Commerce added HTS numbers 3907.61.0000 and 3907.69.0000 to the Case Reference File. See Memorandum, “Request from Customs and Border Protection to Update the ACE Case Reference File: Polyethylene Terephthalate Resin form the Sultanate of Oman (A-523-810),” dated January 31, 2017. Further, on February 28, 2019, Commerce added HTS numbers 3907.61.0010, 3907.61.0050, 3907.69.0010, and 3907.69.0050 to the Case Reference File. See Memorandum, “Request from U.S. Customs and Border Protection to Update the ACE Case Reference File: Polyethylene Terephthalate Resin form the Sultanate of Oman (A-523-810),” dated February 28, 2019.

⁶ See Memorandum, “Issues and Decision Memorandum for the Final Results of the 2017-2018 Administrative Review of the Antidumping Duty Order on Polyethylene Terephthalate Resin from the Sultanate of Oman,” dated concurrently with, and hereby adopted by, this notice.

Analysis of Comments Received

All issues raised in the case and rebuttal briefs by parties to this administrative review are addressed in the IDM, which is hereby adopted by this notice. A list of the issues raised is attached to this notice as an Appendix. The IDM is a public document and is on-file electronically via Enforcement and Compliance's Antidumping and Countervailing Duty Centralized Electronic Service System (ACCESS). ACCESS is available to registered users at https://access.trade.gov and in the Central Records Unit, Room B8024 of the main Commerce building. In addition, a complete version of the IDM can be accessed directly at http://enforcement.trade.gov/frn/index.html. The signed IDM and the electronic version of the IDM are identical in content.

Changes Since the Preliminary Results

Based on our review of the record and comments received from interested parties, we made no revisions to the preliminary dumping margin calculations for OCTAL.

Final Results of the Administrative Review

We have determined that the following weighted-average dumping margin exists for the firm listed below for the period May 1, 2017 through April 30, 2018:

Exporter\producer | Weighted-average dumping margin (percent)
OCTAL SAOC-FZC | 0.00

Assessment Rates

Pursuant to section 751(a)(2)(A) of the Tariff Act of 1930, as amended (the Act), and 19 CFR 351.212(b)(1), Commerce will determine, and U.S. Customs and Border Protections (CBP) shall assess, AD duties on all appropriate entries of subject merchandise in accordance with the final results of this review. Because OCTAL's weighted-average dumping margin is zero percent, we will instruct CBP to liquidate the appropriate entries without regard to AD duties.

For POR entries of subject merchandise produced by OCTAL for which it did not know the merchandise was destined for the United States, we will instruct CBP to liquidate these unreviewed entries at the all-others rate if there is no rate for the intermediate company(ies) involved in the transaction. We intend to issue liquidation instructions to CBP 15 days after publication of the final results of this review.

Cash Deposit Requirements

The following cash deposit requirements will be effective upon publication of this notice of final results of administrative review in the Federal Register for all shipments of subject merchandise entered, or withdrawn from warehouse, for consumption on or after the date of publication of the notice, as provided by section 751(a)(2) of the Act: (1) The cash deposit rate for OCTAL is zero percent; (2) for previously reviewed or investigated companies not listed above, the cash deposit rate will continue to be the final company-specific rate published for the most recent period; (3) if the exporter was not covered in this review, a prior review, or the investigation, but the producer was, the cash deposit rate will be the rate established in the most recently completed segment of this proceeding for the producer of the subject merchandise; and (4) the cash deposit rate for all other producers or exporters will continue to be 7.62 percent ad valorem, the all-others rate established in the investigation.⁷ These cash deposit requirements, when imposed, shall remain in effect until further notice.

⁷ See Certain Polyethylene Terephthalate Resin from Canada, the People's Republic of China, India, and the Sultanate of Oman: Amended Final Affirmative Antidumping Determination (Sultanate of Oman) and Antidumping Duty Orders, 81 FR 27979 (May 6, 2016).

Notification to Importers Regarding the Reimbursement of Duties

This notice serves as a final reminder to importers of their responsibility under 19 CFR 351.402(f) to file a certificate regarding the reimbursement of AD duties prior to liquidation of the relevant entries during the POR. Failure to comply with this requirement could result in Commerce's presumption that reimbursement of AD duties occurred and the subsequent assessment of doubled AD duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

Notification to Interested Parties

We are issuing and publishing this notice in accordance with sections 751(a)(1) and 777(i) of the Act and 19 CFR 351.221(b)(5).

Dated: November 15, 2019.
Jeffrey I. Kessler,
Assistant Secretary for Enforcement and Compliance.

Appendix

List of Topics Discussed in the Issues and Decision Memorandum

I. Summary

II. Background

III. Scope of the Order

IV. Changes Since the Preliminary Results

V. Discussion of the Issues

Comment 1: Whether to Apply Total Adverse Facts Available

VI. Recommendation

[FR Doc. 2019-25375 Filed 11-21-19; 8:45 am]

BILLING CODE 3510-DS-P